NATIONAL SCIENCE FOUNDATION

Proposal Review Panel for Materials Research; Notice of Meeting

In accordance with the Federal Advisory Committee Act (Pub. L. 92-463 as amended), the National Science Foundation announces the following meeting:

Name: Site visit review of the Cornell High Energy Synchrotron Source (CHESS) at Cornell University by the Division of Materials Research (DMR) #1203

Dates & Times: October 28, 2012; 5:45 p.m.-8:30 p.m. October 29, 2012; 7:45 a.m.-8 p.m. October 30, 2012; 8 a.m.-3:30 p.m.

Place: Cornell University, Ithaca, NY 14853.

Type of Meeting: Part open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning operations and further support of the CHESS facility at Cornell.

Agenda

Sunday, October 28, 2012

5:45 p.m.-7 p.m. Closed—Executive Session

7 p.m.-8:30 p.m. Open—Tour of CHESS

Monday, October 29, 2012

8 a.m.-4 p.m. Open—Review of CHESS

4 p.m.-5:40 p.m. Closed—Executive session

5:40 p.m.-8 p.m. Open—Poster session and dinner

Tuesday, February 14, 2012

8 a.m.-3:30 p.m. Closed—Executive session, Draft and Review Report

Reason for Closing: The work being reviewed may include information of a proprietary or confidential nature, including technical information; financial data, such as salaries and personal information concerning individuals associated with the MRSEC. These matters are exempt under 5 U.S.C. 552b(c), (4) and (6) of the Government in the Sunshine Act.

Dated: September 19, 2012.
Susanne Bolton,
Committee Management Officer.

[FR Doc. 2012-23467 Filed 9-21-12; 8:45 am]

BILLING CODE 7555-01-P